DEPARTMENT OF COMMERCE

International Trade Administration

[A-570-881]

Notice of Extension of Time Limit for the Preliminary Results of Antidumping Duty Administrative Review: Certain Malleable Iron Pipe Fittings from the People's Republic of China

AGENCY: Import Administration, International Trade Administration, Department of Commerce.

EFFECTIVE DATE: September 2, 2005.

FOR FURTHER INFORMATION CONTACT: Ryan Douglas, AD/CVD Operations, Office 8, Import Administration, International Trade Administration, U.S. Department of Commerce, 14th Street and Constitution Avenue, NW, Washington, DC 20230; telephone: (202) 482-1277.

SUPPLEMENTARY INFORMATION:

Background

On December 12, 2003, the Department of Commerce (“the Department”) published an antidumping duty order on certain malleable iron pipe fittings from the People's Republic of China (“PRC”). See Antidumping Duty Order: Certain Malleable Iron Pipe Fittings from the People's Republic of China, 68 FR 69376.

On December 30, 2004, the petitioners¹ requested that the Department conduct an administrative review of Beijing Sai Lin Ke Hardware Co. Ltd, Langfang Pannext Pipe Fittings Co., Ltd., Chengde Malleable Iron General Factory, and SCE Co., Ltd for the period December 2, 2003, through November 30, 2004. See Initiation of Antidumping and Countervailing Duty Administrative Reviews and Request for Revocation in Part, 70 FR 4818 (January 31, 2005). The preliminary results of review are currently due no later than September 2, 2005.

¹ Anvil International, Inc. And Ward Manufacturing, Inc.

Extension of Time Limit of Preliminary Results

Pursuant to section 751(a)(3)(A) of the Tariff Act of 1930, as amended (“the Act”), the Department shall make a preliminary determination in an administrative review of an antidumping duty order within 245 days after the last day of the anniversary month of the date of publication of the order.

The Act further provides, however, that the Department may extend that 245-day period to 365 days if it determines it is not practicable to complete the review within the foregoing time period. We find that it is not practicable to complete the preliminary results in this administrative review because additional time is needed to analyze a significant amount of information regarding to each company's factors of production and corresponding surrogate values, and to review responses to supplemental questionnaires from two pro se respondents.

Because it is not practicable to complete this review within the time specified under the Act, we are extending the time period for issuing the preliminary results of this review by an additional 105 days until December 16, 2005, in accordance with section 751(a)(3)(A) of the Act. The final results continue to be due 120 days after the publication of the preliminary results.

Dated: August 29, 2005.
Barbara E. Tillman,
Acting Deputy Assistant Secretary for Import Administration.

[FR Doc. E5-4826 Filed 9-1-05; 8:45 am]

BILLING CODE 3510-DS-S